SMALL BUSINESS ADMINISTRATION

Declaration of Disaster #3618; Commonwealth of the Northern Mariana Islands; Amendment #1

In accordance with a notice received from the Department of Homeland Security—Federal Emergency Management Agency— effective August 26, 2004, the above numbered declaration is hereby amended to establish the incident period for this disaster as beginning August 21, 2004 and continuing through August 26, 2004.

All other information remains the same, i.e., the deadline for filing applications for physical damage is October 26, 2004 and for economic injury the deadline is May 27, 2005.

(Catalog of Federal Domestic Assistance Program Nos. 59002 and 59008).
Dated: September 3, 2004.
Cheri L. Cannon,
Acting Associate Administrator for Disaster Assistance.

[FR Doc. 04-20634 Filed 9-13-04; 8:45 am]

BILLING CODE 8025-01-P